COMMITTEE FOR THE IMPLEMENTATION OF TEXTILE AGREEMENTS

Denying Entry to Textiles and Textile Products Allegedly Manufactured by a Certain Company in Botswana

August 26, 2003.

AGENCY: Committee for the Implementation of Textile Agreements (CITA).

ACTION: Issuing a directive to the Commissioner, Bureau of Customs and Border Protection to deny entry to shipments allegedly manufactured by a certain company in Botswana.

EFFECTIVE DATE: September 2, 2003.

FOR FURTHER INFORMATION CONTACT: Janet Heinzen, International Trade Specialist, Office of Textiles and Apparel, U.S. Department of Commerce, (202) 482-3400.

SUPPLEMENTARY INFORMATION:

Authority: Section 204 of the Agricultural Act of 1956, as amended (7 U.S.C. 1854); Executive Order 12475 of May 9, 1984, as amended.

The Bureau of Customs and Border Protection has conducted on-site verification of textile and apparel production in a number of foreign countries. Based on information obtained through on-site verifications and from other sources, the Bureau of Customs and Border Protection has informed CITA that certain companies were illegally transshipping, were closed, or were unable to produce records to verify production. The Chairman of CITA has directed the Bureau of Customs and Border Protection to issue regulations regarding the denial of entry of shipments from such companies. (See Federal Register notice 64 FR 41395, published on July 30, 1999). In order to secure compliance with U.S. law, including Section 204 and Bureau of Customs and Border Protection law, to carry out textile and textile product agreements, and to avoid circumvention of textile agreements, the Chairman of CITA is directing the Bureau of Customs and Border Protection to deny entry to textile and textile products allegedly manufactured by Uni-Oriental (Pty) Ltd. of Botswana for two years. The Bureau of Customs and Border Protection has informed CITA that this company was found to have been illegally transhipping, closed, or unable to produce records to verify production.

Should CITA determine that this decision should be amended, such amendment will be published in the Federal Register.

D. Michael Hutchinson,
Acting Chairman, Committee for the Implementation of Textile Agreements.

Committee for the Implementation of Textile Agreements

August 26, 2003.

Commissioner,

Bureau of Customs and Border Protection, Washington, DC 20229.

Dear Commissioner: The Bureau of Customs and Border Protection has conducted on-site verification of textile and textile product production in a number of foreign countries. Based on information obtained through on-site verifications and from other sources, the Bureau of Customs and Border Protection has informed CITA that certain companies were illegally transshipping, were closed, or were unable to produce records to verify production. The Chairman of CITA has directed the Bureau of Customs and Border Protection to issue regulations regarding the denial of entry of shipments from such companies (see directive dated July 27, 1999 (64 FR 41395), published on July 30, 1999). In order to secure compliance with U.S. law, including Section 204 and Bureau of Customs and Border Protection law, to carry out textile and textile product agreements, and to avoid circumvention of textile agreements, the Chairman of CITA directs the Commissioner, Bureau of Customs and Border Protection, effective for goods exported on and after September 2, 2003 and extending through September 1, 2005, to deny entry to textiles and textile products allegedly manufactured by the company Uni-Oriental (Pty) Ltd. of Botswana. The Bureau of Customs and Border Protection has informed CITA that this company was found to have been illegally transshipping, closed, or unable to produce records to verify production.

The Committee for the Implementation of Textile Agreements has determined that this action falls within the foreign affairs exception to the rulemaking provisions of 5 U.S.C. 553(a)(1).

Sincerely,

D. Michael Hutchinson,

Acting Chairman, Committee for the Implementation of Textile Agreements.

[FR Doc.03-22202 Filed 8-29-03; 8:45 am]

BILLING CODE 3510-DR-S